DEPARTMENT OF LABOR

Office of the Secretary

Submission for OMB Review; Comment Request

August 13, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 219-8904 or Email Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumption used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Request for State or Federal Workers' Compensation Information.

OMB Number: 1215-0060.

Affected Public: Federal Government and State, Local or Tribal Government.

Frequency: On Occasion.

Number of Respondents: 3,522.

Number of Annual Responses: 3,522.

Estimated Time Per Response: 15 minutes.

Total Burden Hours: 881.

Total Annualized Capital/Startup Costs: $0.

Total Annual Costs (operating/maintaining systems or purchasing services): $11,799.

Description: The Federal Mine Safety and Health Act of 1977, as amended, 30 USC 922(b) and 20 CFR 725.535 directs that DOL Black Lung benefit payments to a beneficiary for any month be reduced by any other payments of state or Federal benefits for workers' compensation due to pneumoconiosis. To ensure compliance with this mandate DCMWC must collect information regarding the status of any state or Federal workers' compensation claim, including dates of payments, weekly or lump sum amounts paid, and other fees or expenses paid out of this award, such as attorney fees and related expenses associated with pneumoconiosis. A social security number is required for the information collection per Public Law 106-113.

Ira L. Mills,
Departmental Clearance Officer.

[FR Doc. 01-21482 Filed 8-23-01; 8:45 am]

BILLING CODE 4510-CK-M